SECURITIES AND EXCHANGE COMMISSION

[File No. 500-1]

Order of Suspension of Trading; In the Matter of Berman Center, Inc., Cyberkinetics Neurotechnology Systems, Inc., and Java Detour, Inc.

April 27, 2012.

It appears to the Securities and Exchange Commission that there is a lack of current and accurate information concerning the securities of Berman Center, Inc. because it has not filed any periodic reports since the period ended December 31, 2007.

It appears to the Securities and Exchange Commission that there is a lack of current and accurate information concerning the securities of Cyberkinetics Neurotechnology Systems, Inc. because it has not filed any periodic reports since the period ended June 30, 2008.

It appears to the Securities and Exchange Commission that there is a lack of current and accurate information concerning the securities of Java Detour, Inc. because it has not filed any periodic reports since the period ended September 30, 2009.

The Commission is of the opinion that the public interest and the protection of investors require a suspension of trading in the securities of the above-listed companies. Therefore, it is ordered, pursuant to Section 12(k) of the Securities Exchange Act of 1934, that trading in the securities of the above-listed companies is suspended for the period from 9:30 a.m. EDT on April 27, 2012, through 11:59 p.m. EDT on May 10, 2012.

By the Commission.
Jill M. Peterson,
Assistant Secretary.

[FR Doc. 2012-10568 Filed 4-27-12; 4:15 pm]

BILLING CODE 8011-01-P